DEPARTMENT OF TRANSPORTATION

Federal Aviation Administration

14 CFR Part 71

[Docket No. FAA-2011-1238; Airspace Docket No. 11-AAL-20]

Revocation and Establishment of Compulsory Reporting Point; Alaska

AGENCY: Federal Aviation Administration (FAA), DOT.

ACTION: Final rule.

SUMMARY: This action modifies a low altitude and a high altitude Alaskan compulsory reporting point in the vicinity of Kodiak, Alaska. The FAA is removing the MARLO compulsory reporting point and establishing CJAYY in the same location, to avoid confusion with a reporting fix of the same name. The boundaries, altitudes, and operating requirements remain the same.

DATES: Effective date 0901 UTC, April 5, 2012. The Director of the Federal Register approves this incorporation by reference action under 1 CFR part 51, subject to the annual revision of FAA Order 7400.9 and publication of conforming amendments.

FOR FURTHER INFORMATION CONTACT: Colby Abbott, Airspace, Regulations and ATC Procedures Group, Office of Mission Support Services, Federal Aviation Administration, 800 Independence Avenue SW., Washington, DC 20591; telephone: (202) 267-8783.

SUPPLEMENTARY INFORMATION:

History

The FAA has determined that the low and high altitude Alaska reporting point MARLO has the same name as another reporting point fix that is in use by another country and is contained in the aeronautical database. To overcome possible confusion and flight safety issues, the FAA is changing the name of the low and high altitude MARLO compulsory reporting point in the vicinity of Kodiak, Alaska, to become the CJAYY compulsory reporting point by removing MARLO and establishing CJAYY in the same location. The latitude and longitude information used to define the reporting point, as well as the intersection description information, are unchanged. Accordingly, since this is an administrative change and does not affect the boundaries, altitudes, or operating requirements of the airspace, notice and public procedures under Title 5 U.S.C. 553(b) are unnecessary.

The Rule

The FAA amends Title 14 Code of Federal Regulations (14 CFR) part 71 by removing the low and high altitude MARLO Alaskan compulsory reporting point in the vicinity of Kodiak, Alaska, and establishing the low and high altitude CJAYY Alaskan compulsory reporting point in the same location.

Alaskan Low Altitude Reporting Points are listed in paragraph 7004 of FAA Order 7400.9V dated August 9, 2011, and effective September 15, 2011, which is incorporated by reference in 14 CFR 71.1. Alaskan High Altitude Reporting Points are listed in paragraph 7005 of FAA Order 7400.9V dated August 9, 2011, and effective September 15, 2011, which is incorporated by reference in 14 CFR 71.1. The reporting points listed in this document will be revised subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends Low and High Altitude Compulsory Reporting Points in Alaska.

Environmental Review

The FAA has determined that this action qualifies for categorical exclusion under the National Environmental Policy Act in accordance with 311a, FAA Order 1050.1E, “Environmental Impacts: Policies and Procedures.” This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9V, Airspace Designations and Reporting Points, signed August 9, 2011, and effective September 15, 2011, is amended as follows:

Paragraph 7004 Alaskan low altitude reporting points.

* * * * *

MARLO: [Removed]

* * * * *

CJAYY: [New]

Lat. 57°27′51″ N., long. 150°31′51″ W. (INT Kodiak, AK, 107° radial and Anchorage CTA/FIR boundary).

* * * * *

Paragraph 7005 Alaskan high altitude reporting points.

* * * * *

MARLO: [Removed]

* * * * *

CJAYY: [New]

Lat. 57°27′51″ N., long. 150°31′51″ W. (INT Kodiak, AK, 107° radial and Anchorage CTA/FIR boundary).

Issued in Washington, DC, on December 15, 2011.
Gary A. Norek,
Acting Manager, Airspace, Regulations and ATC Procedures Group.

[FR Doc. 2011-33019 Filed 12-23-11; 8:45 am]

BILLING CODE 4910-13-P